OFFICE OF PERSONNEL MANAGEMENT

Submission for Review: RI 25-15, Notice of Change in Student's Status, 3206-0042

AGENCY: Office of Personnel Management.

ACTION: 60-Day notice and request for comments.

SUMMARY: The U.S. Office of Personnel Management (OPM) offers the public and other federal agencies the opportunity to comment on an expiring information collection request (ICR) with change, RI 25-15, Notice of Change in Student's Status.

DATES: Comments are encouraged and will be accepted until July 19, 2022.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, U.S. Office of Personnel Management, 1900 E Street NW, Room 3316-L, Washington, DC 20415, Attention: Cyrus S. Benson, or you may obtain this information by emailing Cyrus.Benson@opm.gov, sending a fax to (202) 606-0910, or calling (202) 606-4808.

SUPPLEMENTARY INFORMATION: RI 25-15, Notice of Change in Student's Status, is used to collect sufficient information from adult children of deceased Federal employees or annuitants to assure that the child continues to be eligible for payments from OPM.

As required by the Paperwork Reduction Act of 1995, Public Law 104-13, 94 Stat. 2812 (1980), and as amended by the Clinger-Cohen Act, Public Law 104-106, 110 Stat. 186 (1996), OPM is soliciting comments for this collection of information (OMB No. 3206-0211). The Office of Management and Budget is particularly interested in comments that consider the following:

1. Whether the proposed collection of information is necessary for the proper performance of functions of the agency, including whether the information will have practical utility;

2. The accuracy of the agency's estimate of the burden of the proposed collection of information, including the validity of the methodology and assumptions used;

3. Whether the quality, utility, and clarity of the information collected could be enhanced; and

4. Whether the burden of the collection of information could be minimized on those who are responsible for providing this information, including through the use of appropriate automated, electronic, mechanical, or other technological collection techniques or other forms of information technology (e.g., permitting electronic submissions of responses).

Analysis

Agency: Retirement Services, Office of Personnel Management.

Title: Notice of Change in Student's Status.

OMB Number: 3206-0042.

Frequency: On occasion.

Affected Public: Individuals or Households.

Number of Respondents: 2,500.

Estimated Time per Respondent: 20 minutes.

Total Burden Hours: 835.

U.S. Office of Personnel Management.
Kellie Cosgrove Riley,
Director, Office of Privacy and Information Management.

[FR Doc. 2022-10880 Filed 5-19-22; 8:45 am]

BILLING CODE 6325-38-P